SOCIAL SECURITY ADMINISTRATION

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCBFM, Attn: Reports Clearance Officer, 1333 Annex Building, 6401 Security Blvd., Baltimore, MD 21235, Fax: 410-965-6400, E-mail address: OPLM.RCO@ssa.gov.

The information collections below are pending at SSA. SSA will submit them to OMB within 60 days from the date of this notice. To be sure we consider your comments, we must receive them no later than May 2, 2011. Individuals can obtain copies of the collection instruments by calling the SSA Reports Clearance Officer at 410-965-8783 or by writing to the above email address.

1. Statement Regarding Marriage—20 CFR 404.726—0960-0017. Section 216(h)(1)(A) of the Social Security Act (the Act) directs SSA to apply state law to determine an individual's marital relationship. Some state laws recognize marriages without a ceremony (i.e., common-law marriages). In such cases, SSA provides the same spouse/widow(er) benefits to the common-law spouses as it does to ceremonially married spouses. To determine common-law spouses, SSA must elicit information from blood relatives or other persons who are knowledgeable about the alleged common-law relationship. SSA uses Form SSA-753, Statement Regarding Marriage, to collect information from third parties to verify the applicant's statements about intent, cohabitation, and holding out to the public as married, which are the basic tenets of a common-law marriage. SSA uses the information to determine if a valid marital relationship exists, and if the common-law spouse is entitled to Social Security spouse or widow(er) benefits. The respondents are third parties who can confirm or deny the alleged common-law marriage.

Type of Request: Revision of an OMB-approved information collection.

Number of Respondents: 40,000.

Frequency of Response: 1.

Average Burden per Response: 9 minutes.

Estimated Annual Burden: 6,000 hours.

2. Railroad Employment Questionnaire—20CFR 404.1401, 404.1406-404.1408 —0960-0078. Railroad workers, their dependents, or survivors can concurrently apply for railroad retirement and Social Security benefits at SSA whenever the number holder, or claimant on the number holder's SSN, worked in the railroad industry. SSA uses the information from Form SSA-671 to coordinate Social Security claims processing with the Railroad Retirement Board and to determine benefit entitlement and amount. The respondents are Social Security benefit applicants employed by a railroad or dependents of railroad workers.

Type of Request: Revision of an OMB-approved information collection.

Number of Respondents: 125,000.

Frequency of Response: 1.

Average Burden of Response: 5 minutes.

Estimated Annual Burden: 10,417 hours.

3. Statement of Death by Funeral Director—20 CFR 404.715 and 404.720—0960-0142. When a Social Security-insured worker dies, the funeral director or funeral home responsible for the worker's burial or cremation completes Form SSA-721 and sends it to SSA. SSA uses this information for three purposes: (1) To establish proof of death for the insured worker; (2) to determine if the insured worker was receiving any pre-death benefits that SSA needs to terminate; and (3) to ascertain which surviving family member is eligible for the lump-sum death payment or other death benefits. The respondents are funeral directors who handle funeral arrangements for the insured individuals.

Type of Request: Revision of an OMB-approved information collection.

Number of Respondents: 319,811.

Frequency of Response: 1.

Average Burden per Response: 3.5 minutes.

Estimated Annual Burden: 18,656 hours.

4. Government Pension Questionnaire—20 CFR 404.408a—0960-0160. When someone is concurrently receiving spouse or surviving spousal Social Security benefits and a government pension based on non-Social Security earnings, SSA may reduce the benefit amount by two-thirds the amount of the government pension under the Act's Government Pension Offset (GPO) provision. We use Form SSA-3885, Government Pension Questionnaire, to document such cases. SSA uses the information to determine whether the GPO applies, to identify exceptions, and to determine the benefit reduction amount and effective date. The respondents are individuals and households.

Type of Request: Revision of an OMB-approved information collection.

Number of Respondents: 76,000.

Frequency of Response: 1.

Average Burden per Response: 12.5 minutes.

Estimated Annual Burden: 15,833 hours.

5. Request for Hearing by Administrative Law Judge—20 CFR 404.929, 404.933, 416.1429, 404.1433, 405.722, 418.1350—0960-0269. When SSA denies applicants' or beneficiaries' requests for new or continuing benefits, those applicants or beneficiaries are entitled to request a hearing to appeal the decision. SSA uses the information from Form HA-501 to determine if the individual filed the request within the prescribed time, is the proper party, and has taken the steps necessary to obtain the right to a hearing. SSA also uses the information to determine the individual's reason(s) for disagreeing with SSA's prior determinations in the case; if the individual has additional evidence to submit; if the individual wants an oral hearing or a decision on-the-record; and whether the individual has (or wants to appoint) a representative. The respondents are Social Security benefit applicants and recipients who want to appeal SSA's denial of their request for new or continued benefits and Medicare Part B recipients who must pay the Medicare Part B Income-Related Monthly Adjustment Amount.

Type of Request: Revision of an OMB-approved information collection.

Collection method | Number of respondents | Frequency of response | Average burden per response (minutes) | Estimated annual burden (hours)
Paper & Modernized Claims System | 334,735 | 1 | 10 | 55,789
i501 | 334,734 | 1 | 19 | 105,999
Totals | 669,469 |  |  | 161,788

6. Administrative Review Process for Adjudicating Initial Disability Claims—20 CFR 404.949, 404.950, 404.957(a), 404.961, 404.982, 404.987-404.988, 404.1450, 404.1499, 416.1457(a), 416.1461, 416.1482, and 416.1487-416.1488—0960-0710. Claimants have a statutory right under the Act and current regulations to apply for Social Security disability insurance benefits or Supplemental Security Income (SSI). SSA must collect information at each step of the administrative process to adjudicate claims fairly and efficiently. SSA collects this information to establish a claimant's right to administrative review and the severity of the claimant's alleged impairments. SSA uses the information to determine entitlement or continuing eligibility to disability insurance benefits or SSI payments and to enable appeals of these determinations. The respondents are applicants for title II disability insurance benefits or title XVI SSI.

Type of Request: Revision of an OMB-approved information collection.

20 CFR Section number | Number of respondents | Frequency of response | Average burden per response (minutes) | Estimated annual burden (hours)
404.961 and 416.1461 | 12,220 | 1 | 20 | 4,073
404.950 and 404.1450 | 1,040 | 1 | 20 | 347
404.949 and 404.1449 | 2,888 | 1 | 60 | 2,888
404.957(a) and 416.1457(a) | 21,078 | 1 | 10 | 3,513
404.982 and 416.1482 | 2,520 | 1 | 30 | 1,260
404.987-404.988 and 416.1487-416.1488 | 12,425 | 1 | 30 | 6,213
Totals | 52,171 |  |  | 18,294

Dated: February 28, 2011.
Faye Lipsky,
Reports Clearance Officer, Center for Reports Clearance, Social Security Administration.

[FR Doc. 2011-4797 Filed 3-2-11; 8:45 am]

BILLING CODE 4191-02-P